FEDERAL DEPOSIT INSURANCE CORPORATION

[OMB No. 3064-0153]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the renewal of the existing information collection described below (OMB Control No. 3064-0153).

DATES: Comments must be submitted on or before May 30, 2023.

ADDRESSES: Interested parties are invited to submit written comments to the FDIC by any of the following methods:

• Agency Website: https://www.fdic.gov/resources/regulations/federal-register-publications/.

• Email: comments@fdic.gov. Include the name and number of the collection in the subject line of the message.

• Mail: Jennifer Jones (202-898-6768), Regulatory Counsel, MB-3078, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, Regulatory Counsel, 202-898-6768, jennjones@fdic.gov, MB-3078, Federal Deposit Insurance Corporation, 550 17th Street NW, Washington, DC 20429.

SUPPLEMENTARY INFORMATION: Proposal to renew the following currently approved collection of information:

1. Title: Regulatory Capital Rules.

OMB Number: 3064-0153.

Forms: None.

Affected Public: Insured state nonmember banks and state savings associations.

Burden Estimate:

Estimated Summary of Annual Burden
| Type of burden | Estimated number of respondents | Estimated time per response | Frequency of response | Total annual estimated burden
BASEL III Advanced Approaches: Recordkeeping, Disclosure, and Reporting
Implementation plan—Section _.121(b): Ongoing | Recordkeeping | 1 | 330.00 | On Occasion | 330
Documentation of advanced systems—Section _.122(j): Ongoing | Recordkeeping | 1 | 19.00 | On Occasion | 19
(CCR)—Section _.132(d)(3)(vi): One-time | Recordkeeping | 1 | 80.00 | On Occasion | 80
(CCR)—Section _.132(d)(3)(viii): One-time | Recordkeeping | 1 | 80.00 | On Occasion | 80
(CCR)—Section _.132(d)(3)(viii) Ongoing | Recordkeeping | 1 | 10.00 | Quarterly | 40
(CCR)—Section _.132(d)(3)(ix): One-time | Recordkeeping | 1 | 40.00 | On Occasion | 40
(CCR)—Section _.132(d)(3)(ix): Ongoing | Recordkeeping | 1 | 40.00 | On Occasion | 40
(CCR)—Section _.132(d)(3)(x): One-time | Recordkeeping | 1 | 20.00 | On Occasion | 20
(CCR)—Section _.132(d)(3)(xi): One-time | Recordkeeping | 1 | 40.00 | On Occasion | 40
(CCR)—Section _.132(d)(3)(xi): Ongoing | Recordkeeping | 1 | 40.00 | On Occasion | 40
(OC)—Sections _.141(b)(3), _.141(c)(1), _.141(c)(2)(i)-(ii) One-time | Recordkeeping | 1 | 39.00 | On Occasion | 39
(OC)—Section _.141(c)(2)(i)-(ii): Ongoing | Recordkeeping | 1 | 10.00 | Quarterly | 40
(CCR)—Section _.132(b)(2)(iii)(A): One-time | Reporting | 1 | 80.00 | On Occasion | 80
(CCR)—Section _.132(b)(2)(iii)(A): Ongoing | Reporting | 1 | 16.00 | On Occasion | 16
(CCR)—Section _.132(d)(2)(iv): One-time | Reporting | 1 | 80.00 | On Occasion | 80
(CCR)—Section _.132(d)(2)(iv): Ongoing | Reporting | 1 | 40.00 | On Occasion | 40
Section _.153(b): One-time | Reporting | 1 | 1.00 | On Occasion | 1
Supervisory approvals—Sections _.123, _.124, _.132(b)(3), _.132(d)(1), _.132(d)(1)(iii) Ongoing | Recordkeeping | 1 | 55.77 | On Occasion | 56
Sections _.142 and _.172 Ongoing | Disclosure | 1 | 5.78 | On Occasion | 6
(CCB and CCYB)—Section _.173, Table 4 | Disclosure | 1 | 25.00 | Quarterly | 100
(Securitization)—Section _.173, Table 9
(IRR)—Section_.173, Table 12 Ongoing
(CCB and CCYB)—Section _.173, Table 4 | Disclosure | 1 | 200.00 | On Occasion | 200
(Securitization)—Section _.173, Table 9
(IRR)—Section _.173, Table 12 One-time
(Capital Structure)—Section _.173, Table 2: Ongoing | Disclosure | 1 | 2.00 | Quarterly | 8
(Capital Structure)—Section _.173, Table 2: One-time | Disclosure | 1 | 16.00 | On Occasion | 16
(Capital Adequacy)—Section _.173, Table 3: Ongoing | Disclosure | 1 | 2.00 | Quarterly | 8
(Capital Adequacy)—Section _.173, Table 3: One-time | Disclosure | 1 | 16.00 | On Occasion | 16
(CR)—Section _.173, Table 5: Ongoing | Disclosure | 1 | 12.00 | Quarterly | 48
(CR)—Section _.173, Table 5: One-time | Disclosure | 1 | 96.00 | On Occasion | 96
(CR)—Section _.173, Table 13: Ongoing | Disclosure | 1 | 5.00 | Quarterly | 20
Section _.124(a): Ongoing | Disclosure | 1 | 0.50 | Quarterly | 2
Subtotal: One-time Recordkeeping, Reporting, and Disclosure |  |  |  |  | 788
Subtotal: Ongoing Recordkeeping, Disclosure, and Reporting |  |  |  |  | 813
Total Recordkeeping, Disclosure, and Reporting |  |  |  |  | 1,601
Minimum Regulatory Capital Ratios: Recordkeeping
(CCR Operational Requirements)—Sections _.3(d) and _.22(h)(2)(iii)(A): Ongoing | Recordkeeping | 3,038 | 16.00 | On Occasion | 48,608
Subtotal: One-time Recordkeeping |  |  |  |  | 0
Subtotal: Ongoing Recordkeeping |  |  |  |  | 48,608
Total Recordkeeping |  |  |  |  | 48,608
Standardized Approach: Recordkeeping, Reporting, and Disclosure
(QCCP)—Section _.35(b)(3)(i)(A): One-time | Recordkeeping | 1 | 2.00 | On Occasion | 2
(QCCP)—Section _.35(b)(3)(i)(A): Ongoing | Recordkeeping | 3,038 | 2.00 | On Occasion | 6,076
(CT)—Section _.37(c)(4)(i)(E): One-time | Recordkeeping | 1 | 80.00 | On Occasion | 80
(CT)—Section _.37(c)(4)(i)(E): Ongoing | Recordkeeping | 3,038 | 16.00 | On Occasion | 48,608
(SE)—Sections _.41(b)(3) and _.41(c)(2)(i) One-time | Recordkeeping | 1 | 40.00 | On Occasion | 40
(SE)—Section _.41(c)(2)(ii): Ongoing | Recordkeeping | 3,038 | 2.00 | On Occasion | 6,076
(CT)—Section _.37(c)(4)(i)(E): Ongoing | Reporting | 1 | 1.00 | On Occasion | 1
(S.E.)—Section _.42(e)(2) | Disclosure | 1 | 226.25 | On Occasion | 226
(C.R.) Sections _.62(a),(b), & (c)
(Q&Q) Sections _.63(a) & (b)
One-time
(S.E.)—Section _.42(e)(2) | Disclosure | 1 | 131.25 | Quarterly | 525
(C.R.) Sections _.62(a),(b), & (c)
(Q&Q) Sections _.63(a) & (b) and _.63 Tables: Ongoing
Subtotal: One-time Recordkeeping, Reporting, and Disclosure |  |  |  |  | 348
Subtotal: Ongoing Recordkeeping, Reporting, and Disclosure |  |  |  |  | 61,286
Total Recordkeeping, Reporting, and Disclosure |  |  |  |  | 61,634
Total One-Time Burden Hours |  |  |  |  | 1,136
Total Ongoing Burden Hours |  |  |  |  | 110,707
Total Burden Hours |  |  |  |  | 111,843

General Description of Collection: This collection comprises the recordkeeping, reporting, and disclosure requirements associated with minimum capital requirements and overall capital adequacy standards for insured state nonmember banks, state savings associations, and certain subsidiaries of those entities. The data is used by the FDIC to evaluate capital before approving various applications by insured depository institutions, to evaluate capital as an essential component in determining safety and soundness, and to determine whether an institution is subject to prompt corrective action provisions.

There is no change in the method or substance of the collection. The 8,413-hour decrease in burden hours is a result of economic fluctuation, a decrease in the number of entities subject to the information collection, and efforts to align with the other banking agencies' related information collections.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 27, 2023.
James P. Sheesley,
Assistant Executive Secretary.

[FR Doc. 2023-06656 Filed 3-30-23; 8:45 am]

BILLING CODE 6714-01-P